LEGAL SERVICES CORPORATION

Notice of Funding Availability for Calendar Year 2013 Grant Funds; Request for Applications: 2013 Grant Funds Under the Hurricane Sandy Disaster Relief Grant Program

AGENCY: Legal Services Corporation.

ACTION: Notice.

SUMMARY: The Legal Services Corporation (LSC) is the national organization charged with administering federal funds provided for civil legal services to low-income people.

This Request for Applications (RFA) announces the availability of grant funds and is soliciting grant applications from current LSC recipients that provide legal services in service areas that have been federally-declared as disaster areas resulting from Hurricane Sandy. The Disaster Relief Appropriations Act, 2013, Public Law 113-2, 127 Stat. 4, includes $1 million for LSC to provide assistance to low-income people in areas significantly affected by Hurricane Sandy. The amount of the appropriation has been reduced by $50,000 because of sequestration. LSC anticipates providing the full $950,000 through grants awarded pursuant to this process. The funds must be expended by grantees within twenty-four (24) months following the obligation of the funds.

DATES: This RFA is available the week of May 20, 2013. Legal Services Corporation must receive all applications on or before June 21, 2013, 11:59 p.m., E.D.T. Complete applications for this grant program must be submitted using the online system at http://grants.lsc.gov/apply-for-funding/disaster-relief-grants.

ADDRESSES: Office of Program Performance, Legal Services Corporation, 3333 K Street NW., Third Floor, Washington, DC 20007-3522.

FOR FURTHER INFORMATION CONTACT: John Eidleman, Office of Program Performance, by email at sandydisaster@lsc.gov, by phone at (202) 295-1500, or visit the LSC grants Web site at www.grants.lsc.gov.

SUPPLEMENTARY INFORMATION: LSC will only accept applications from current LSC recipients that provide legal services in those states significantly affected by Hurricane Sandy and the designated disaster areas set out in the Major Disaster Declarations issued for the incident period of October 26, 2012 to November 8, 2012, which is available at http://www.fema.gov/disasters. Awards are intended to provide the mobile resources, technology, and disaster pro bono volunteer coordinators necessary to provide storm-related legal services to the LSC-eligible client population in the areas significantly affected by Hurricane Sandy. The application guidelines will be made available at http://grants.lsc.gov/apply-for-funding/disaster-relief-grants the week of May 20, 2013.

Dated: May 16, 2013.
Atitaya C. Rok,
Staff Attorney.

[FR Doc. 2013-12119 Filed 5-21-13; 8:45 am]

BILLING CODE 7050-01-P